OVERSEAS PRIVATE INVESTMENT CORPORATION

Sunshine Act; Board of Directors Meeting

TIME AND DATE: Wednesday, March 31, 2010, 9:30 a.m. (OPEN Portion); 9:45 a.m. (CLOSED Portion).

PLACE: Offices of the Corporation, Twelfth Floor Board Room, 1100 New York Avenue, NW., Washington, DC.

STATUS: Meeting OPEN to the Public from 9:30 a.m. to 9:45 a.m. Closed portion will commence at 9:45 a.m. (approx.)

MATTERS TO BE CONSIDERED:

1. President's Report.

2. Approval of November 19, 2009 Minutes (Open Session).

FURTHER MATTERS TO BE CONSIDERED: (Closed to the Public 9:45 a.m.)

1. Finance Project—Turkey.

2. Finance Project—Ghana.

3. Finance Project—Panama.

4. Finance Project—Russia.

5. Finance Project—Jordan.

6. Finance Project—Afghanistan.

7. Finance Project—Afghanistan.

8. Finance Project—Iraq.

9. Finance Project—OPIC-eligible countries in Africa, Europe, and Newly Independent States.

10. Finance Project—Africa.

11. Finance Project—India and other OPIC-eligible Asian countries.

12. Finance Project—Nigeria, Ghana, Kenya, Angola, South Africa, Ivory Coast, Tanzania and Uganda.

13. Finance Project—OPIC-eligible countries in Asia.

14. Approval of November 19, 2009 Minutes (Closed Session).

15. Pending Major Projects.

16. Reports.

Written summaries of the projects to be presented will be posted on OPIC's Web site on or about February 24, 2010.

CONTACT PERSON FOR INFORMATION: Information on the meeting may be obtained from Connie M. Downs at (202) 336-8438.

February 24, 2010.
Connie M. Downs,
Corporate Secretary, Overseas Private Investment Corporation.

[FR Doc. 2010-4103 Filed 2-24-10; 11:15 am]

BILLING CODE 3210-01-P